DEPARTMENT OF HEALTH AND HUMAN SERVICES

Office of the Secretary

Office of the Assistant Secretary for Planning and Evaluation; Delegation of Authority

Notice is hereby given that I have delegated to the Assistant Secretary for Planning and Evaluation all authorities under Section 2108(c) of Title XXI of the Social Security Act, titled “Federal Evaluation of State Children's Health Insurance Program,” as amended hereafter. These authorities shall be implemented in consultation with the Health Care Financing Administration, the Health Resources and Services Administration, and other relevant components within the Department.

These delegations shall be exercised under the Department's existing delegation of authority and policy on regulations. In addition, I hereby affirm and ratify any actions taken by you or your subordinates that involved the exercise of the authorities delegated herein prior to the effective date of this delegation.

This delegation is effective immediately.

Donna E. Shalala,
Secretary.

[FR Doc. 00-9420 Filed 4-14-00; 8:45 am]

BILLING CODE 4150-04-M